DEPARTMENT OF TRANSPORTATION

Federal Aviation Administration

Aviation Rulemaking Advisory Committee; Meeting

AGENCY: Federal Aviation Administration (FAA), DOT.

ACTION: Notice of Aviation Rulemaking Advisory Committee (ARAC) meeting.

SUMMARY: The FAA is issuing this notice to advise the public of a meeting of the ARAC.

DATES: The meeting will be held on September 20, 2018, starting at 1:00 p.m. Eastern Standard Time. Arrange oral presentations by September 4, 2018.

ADDRESSES: The meeting will take place at the Federal Aviation Administration, Bessie Coleman Room, 800 Independence Avenue SW, Washington, DC 20591.

FOR FURTHER INFORMATION CONTACT: Lakisha Pearson, Federal Aviation Administration, 800 Independence Avenue SW, Washington, DC 20591, telephone (202) 267-4191; fax (202) 267-5075; email 9-awa-arac@faa.gov.

SUPPLEMENTARY INFORMATION: Pursuant to Section 10(a)(2) of the Federal Advisory Committee Act (5 U.S.C. App. 2), we are giving notice of a meeting of the ARAC taking place on September 20, 2018, at the Federal Aviation Administration, Bessie Coleman Room, 800 Independence Avenue SW, Washington, DC 20591.

The Draft Agenda includes:

1. Status Report from the FAA

2. Status Updates:

a. Active Working Groups

b. Transport Airplane and Engine (TAE) Subcommittee

3. Recommendation Reports

4. Any Other Business

The Agenda will be published on the FAA Meeting web page (https://www.faa.gov/regulations_policies/rulemaking/npm/) once it is finalized.

Attendance is open to the interested public but limited to the space available. Please confirm your attendance with the person listed in the FOR FURTHER INFORMATION CONTACT section no later than September 4, 2018. Please provide the following information: Full legal name, country of citizenship, and name of your industry association, or applicable affiliation. If you are attending as a public citizen, please indicate so.

For persons participating by telephone, please contact the person listed in the FOR FURTHER INFORMATION CONTACT section by email or phone for the teleconference call-in number and passcode. Callers are responsible for paying long-distance charges.

The public must arrange by September 4, 2018, to present oral statements at the meeting. The public may present written statements to the Aviation Rulemaking Advisory Committee by providing 25 copies to the Designated Federal Officer, or by bringing the copies to the meeting.

If you are in need of assistance or require a reasonable accommodation for this meeting, please contact the person listed under the heading FOR FURTHER INFORMATION CONTACT. Sign and oral interpretation, as well as a listening device, can be made available if requested 10 calendar days before the meeting.

Issued in Washington, DC, on August 2, 2018.
Lirio Liu,
Designated Federal Officer, Aviation Rulemaking Advisory Committee.

[FR Doc. 2018-16961 Filed 8-7-18; 8:45 am]

BILLING CODE 4910-13-P